COMMISSION ON CIVIL RIGHTS

Notice of Public Meeting of the Washington Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Washington Advisory Committee (Committee) to the Commission will hold a series of meetings via Webex on Monday, March 15 and Wednesday, March 17, 2021 from 10:00 a.m. to 12:00 p.m. Pacific Time for the purpose of hearing testimony on disparities within use of force and potential barriers to accountability.

DATES: The meetings will be held on:

• Panel 1: Monday, March 15, 2021 from 10:00 a.m. to 12:00 p.m. Pacific Time.

• Panel 2: Wednesday, March 17, 2021 from 10:00 a.m. to 12:00 p.m. Pacific Time.

Access Information

Panel 1—Public Webex Registration Link: https://tinyurl.com/y33qsb5o

Panel 2—Public Webex Registration Link at: https://tinyurl.com/y58bftxx

FOR FURTHER INFORMATION CONTACT: Brooke Peery, Designated Federal Officer, (DFO) at bpeery@usccr.gov or by phone at (202) 701-1376.

SUPPLEMENTARY INFORMATION: Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012.

Records and documents discussed during the meeting will be available for public viewing prior to and after the meetings at https://www.facadatabase.gov/FACA/FACAPublicViewCommitteeDetails?id=a10t0000001gzkZAAQ.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome & Opening Remarks

II. Panelist Remarks

III. Committee Q&A

IV. Public Comment

V. Adjournment

Dated: January 22, 2021.
David Mussatt,
Supervisory Chief, Regional Programs Unit.

[FR Doc. 2021-01846 Filed 1-27-21; 8:45 am]

BILLING CODE P